DEPARTMENT OF THE INTERIOR

Fish and Wildlife Service

50 CFR Part 17

[FXES1111090FEDR-256-FF09E21000]

Endangered and Threatened Wildlife and Plants; 90-Day Findings for Nine Species

AGENCY: Fish and Wildlife Service, Interior.

ACTION: Notification of petition findings and initiation of status reviews.

SUMMARY: We, the U.S. Fish and Wildlife Service (Service), announce 90-day findings on eight petitions to add species to the Lists of Endangered and Threatened Wildlife and Plants and one petition to revise critical habitat for a listed species under the Endangered Species Act of 1973, as amended (Act). Based on our review, we find that the petitions to list the cinnamon juga (Juga canella), Great Basin ramshorn (Helisoma newberryi), montane peaclam (Pisidium ultramontanum), painted woolly bat (Kerivoula picta), Southern Cascades population of the Sierra Nevada red fox (Vulpes vulpes necator), and Sulawesi forest turtle (Leucocephalon yuwonoi) present substantial scientific or commercial information indicating that the petitioned actions may be warranted. Therefore, with the publication of this document, we announce that we are initiating status reviews of these species to determine whether the petitioned actions are warranted. To ensure that the status reviews are comprehensive, we request scientific and commercial data and other information regarding the species and factors that may affect their status. Based on the status reviews, we will issue 12-month petition findings, which will address whether or not the petitioned actions are warranted, in accordance with the Act. We also find that the petition to revise critical habitat for the leatherback sea turtle (Dermochelys coriacea) presents substantial scientific information indicating that the petitioned action may be warranted. Therefore, we announce that we plan to determine how we will proceed with the request to revise a critical habitat designation for the species. We further find that the petitions to list the Alaskan glacier buttercup (Ranunculus glacialis subsp. alaskensis) and eastern population of the golden eagle (Aquila chrysaetos) do not present substantial scientific or commercial information indicating the petitioned actions may be warranted. Therefore, we are not initiating a status review of the Alaskan glacier buttercup or the eastern population of golden eagle.

DATES: These findings were made on August 25, 2025.

ADDRESSES:

Supporting documents: Summaries of the basis for the petition findings contained in this document are available on https://www.regulations.gov under the appropriate docket number (see tables under SUPPLEMENTARY INFORMATION). In addition, this supporting information is available by contacting the appropriate person, as specified in FOR FURTHER INFORMATION CONTACT.

Status reviews and critical habitat review: If you have new scientific or commercial data or other information concerning the status of, or threats to, the cinnamon juga, Great Basin ramshorn, montane peaclam, painted woolly bat, Southern Cascades population of the Sierra Nevada red fox, or Sulawesi forest turtle, or their habitats, or if you have information concerning the critical habitat of the leatherback sea turtle, please provide those data or information by one of the following methods listed below.

(1) Electronically: Go to the Federal eRulemaking Portal: https://www.regulations.gov. In the Search box, enter the appropriate docket number (see table 1 under SUPPLEMENTARY INFORMATION). Then, click on the “Search” button. After finding the correct document, you may submit information by clicking on “Comment.”

(2) By hard copy: Submit by U.S. mail to: Public Comments Processing, Attn: [Insert appropriate docket number; see table 1 under SUPPLEMENTARY INFORMATION], U.S. Fish and Wildlife Service, MS: PRB/3W, 5275 Leesburg Pike, Falls Church, VA 22041-3803.

We request that you send information only by the methods described above. We will post all information we receive on https://www.regulations.gov. This generally means that we will post any personal information you provide us (see Information Submitted for a Status Review and a Critical Habitat Review, below).

FOR FURTHER INFORMATION CONTACT:

Species common name | Contact person
Alaskan glacier buttercup | Neesha Stellrecht, Field Supervisor, Northern Alaska Fish and Wildlife Field Office, 907-347-8906, Neesha_Stellrecht@fws.gov.
cinnamon juga | Ryan Fogerty, Project Leader, Yreka Fish and Wildlife Office, 530-340-7900, ryan_fogerty@fws.gov.
eastern population of golden eagle | Matthew Hinderliter, Regional Listing Coordinator, Northeast Region Headquarters, 601-720-6531, matthew_hinderliter@fws.gov.
Great Basin ramshorn and montane peaclam | Jennie Land, Project Leader, Klamath Falls Fish and Wildlife Office, 541-885-8481, jennie_land@fws.gov.
leatherback sea turtle | Lourdes Mena, Field Supervisor, Caribbean Ecological Services Field Office, 352-749-2462, lourdes_mena@fws.gov.
painted woolly bat and Sulawesi forest turtle | Rachel London, Manager, Branch of Delisting and Foreign Species, Ecological Services Headquarters, 703-358-2491, rachel_london@fws.gov.
Southern Cascades population of Sierra Nevada red fox | Jennifer Siani, Classification Coordinator, Oregon Fish and Wildlife Office, 503-231-6179, jennifer_siani@fws.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Information Submitted for Status Reviews and a Critical Habitat Review

If we find that a petition presents substantial scientific or commercial information indicating that the petitioned action may be warranted, the Act requires that we promptly commence a review of the status of the species, and we will subsequently complete a status review in accordance with our prioritization methodology for 12-month findings (81 FR 49248; July 27, 2016). We identify the Service's schedule for conducting status reviews on the National Listing Workplan (domestic species), the National Workplan to Address Downlisting and Delisting Recommendations (domestic species), or the Foreign Species Workplan (foreign species), which are available at https://www.fws.gov/project/national-listing-workplan, https://www.fws.gov/media/national-workplan-address-downlisting-and-delisting-recommendations, and https://www.fws.gov/project/foreign-species-listing-workplan, respectively.

The cinnamon juga, Great Basin ramshorn, montane peaclam, painted woolly bat, Southern Cascades population of the Sierra Nevada red fox, and Sulawesi forest turtle will be assigned a bin number (in coordination with States and others with relevant information) according to our prioritization methodology and will be added to a future version of the applicable workplan. The workplans provide transparency and predictability to the public about when the Service anticipates completing specific findings and actions while allowing for flexibility to update the workplans when new information changes the priorities.

You may submit information concerning the status of, or threats to, the cinnamon juga, Great Basin ramshorn, montane peaclam, painted woolly bat, Southern Cascades population of the Sierra Nevada red fox, or Sulawesi forest turtle, or their habitats, to be considered during our status review of the species. Additionally, you may also submit any new information concerning the critical habitat of the leatherback sea turtle to be considered as we determine how we will proceed with the request to revise the critical habitat designation. We request that you send this information only by the methods described in ADDRESSES. Please include any supplemental data with your submission (such as scientific journal articles or other publications) to allow us to verify any scientific or commercial information you include. If you submit information via https://www.regulations.gov, your entire submission—including any personal identifying information—will be posted on the website.

Background

Section 4 of the Act (16 U.S.C. 1533) and its implementing regulations in title 50 of the Code of Federal Regulations (50 CFR part 424) set forth the procedures for adding species to, removing species from, or reclassifying species on the Federal Lists of Endangered and Threatened Wildlife and Plants (Lists or List) in 50 CFR part 17. Section 4(b)(3)(A) of the Act requires that we make a finding on whether a petition to add a species to the List (i.e., “list” a species), remove a species from the List (i.e., “delist” a species), or change a listed species' status from endangered to threatened or from threatened to endangered (i.e., “reclassify” a species) presents substantial scientific or commercial information indicating that the petitioned action may be warranted. To the maximum extent practicable, we are to make this finding within 90 days of our receipt of the petition and publish the finding promptly in the Federal Register.

Our regulations establish that substantial scientific or commercial information with regard to a 90-day petition finding refers to credible scientific or commercial information in support of the petition's claims such that a reasonable person conducting an impartial scientific review would conclude that the action proposed in the petition may be warranted (50 CFR 424.14(h)(1)(i)). A positive 90-day petition finding does not indicate that the petitioned action is warranted; the finding indicates only that the petitioned action may be warranted and that a full review should occur.

The Act defines an “endangered species” as a species that is in danger of extinction throughout all or a significant portion of its range and a “threatened species” as a species that is likely to become an endangered species within the foreseeable future throughout all or a significant portion of its range. The Act requires that we determine whether any species is an endangered species or a threatened species because of any of the five factors described in section 4(a)(1) of the Act (16 U.S.C. 1533(a)(1)). The five factors are:

(a) The present or threatened destruction, modification, or curtailment of its habitat or range (Factor A);

(b) Overutilization for commercial, recreational, scientific, or educational purposes (Factor B);

(c) Disease or predation (Factor C);

(d) The inadequacy of existing regulatory mechanisms (Factor D); and

(e) Other natural or manmade factors affecting its continued existence (Factor E).

These factors represent broad categories of natural or human-caused actions or conditions that could have an effect on a species' continued existence. In evaluating these actions and conditions, we look for those that may have a negative effect on individuals of the species, as well as other actions or conditions that may ameliorate any negative effects or may have positive effects.

We use the term “threat” to refer in general to actions or conditions that are known to, or are reasonably likely to, affect individuals of a species negatively. The term “threat” includes actions or conditions that have a direct impact on individuals (direct impacts), as well as those that affect individuals through alteration of their habitat or required resources (stressors). The term “threat” may encompass—either together or separately—the source of the action or condition, or the action or condition itself. However, the mere identification of any threat(s) may not be sufficient to compel a finding that the information in the petition is substantial information indicating that the petitioned action may be warranted. The information presented in the petition must include evidence sufficient to suggest that these threats may be affecting the species to the point that the species may meet the definition of an endangered species or threatened species under the Act.

If we find that a petition presents such information, our subsequent status review will evaluate all identified threats by considering the species' expected response and the effects of the threats—in light of those actions and conditions that will ameliorate the threats—on an individual, population, and species level. We evaluate each threat and its expected effects on the species, then analyze the cumulative effect of the threats on the species as a whole. We also consider the cumulative effect of the threats in light of those actions and conditions that will have positive effects on the species, such as any existing regulatory mechanisms or conservation efforts. The Secretary determines whether the species meets the definition of an “endangered species” or a “threatened species” only after conducting this cumulative analysis and describing the expected effect on the species. We note that designating critical habitat is not a petitionable action under the Act. Petitions to designate critical habitat (for species without existing critical habitat) are reviewed under the Administrative Procedure Act (5 U.S.C. 551 et seq.) and applicable Departmental regulations, and are not addressed in this finding (see 50 CFR 424.14(j)). To the maximum extent prudent and determinable, any proposed critical habitat will be addressed concurrently with a proposed rule to list a species, if applicable.

For petitions to revise critical habitat, our regulations establish that substantial scientific information with regard to a 90-day petition finding refers to credible scientific information in support of the petition's claims such that a reasonable person conducting an impartial scientific review would conclude that the revision proposed in the petition may be warranted (50 CFR 424.14(i)(1)(i)). In determining whether a revision of critical habitat may be warranted, we may consider the following:

(1) Areas that the current designation does not include that should be included, or includes that should no longer be included, and any benefits of designating or not designating these specific areas as critical habitat;

(2) The physical or biological features essential for the conservation of the species and whether they may require special management considerations or protection;

(3) For any areas petitioned to be added to critical habitat within the geographical area occupied by the species at the time it was listed, information indicating that the specific areas contain one or more of the physical or biological features (including characteristics that support ephemeral or dynamic habitat conditions) that are essential to the conservation of the species, or that these features do not require special management considerations or protection;

(4) For any areas petitioned for removal from currently designated critical habitat within the geographical area occupied by the species at the time it was listed, information indicating that the specific areas do not contain the physical or biological features (including characteristics that support ephemeral or dynamic habitat conditions) that are essential to the conservation of the species, or that these features do not require special management considerations or protection; and

(5) For areas petitioned to be added to or removed from critical habitat that were outside the geographical area occupied by the species at the time it was listed, information indicating why the petitioned areas are or are not essential for the conservation of the species.

Section 4(b)(3)(D) of the Act requires that we make a finding on whether a petition to revise a critical habitat designation presents substantial scientific information indicating that the petitioned action may be warranted. To the maximum extent practicable, we are to make this finding within 90 days of our receipt of the petition and publish the finding promptly in the Federal Register.

Summaries of Petition Findings

The petition findings contained in this document are listed in the tables below, and the basis for each finding, along with supporting information, is available on https://www.regulations.gov under the appropriate docket number.

Table 1—Substantial Findings
Common name | Docket No. | URL to docket on https://www.regulations.gov
Cinnamon juga | FWS-R8-ES-2024-0167 | https://www.regulations.gov/docket/FWS-R8-ES-2024-0167.
Great Basin ramshorn | FWS-R8-ES-2024-0166 | https://www.regulations.gov/docket/FWS-R8-ES-2024-0166.
Leatherback sea turtle | FWS-R4-ES-2024-0169 | https://www.regulations.gov/docket/FWS-R4-ES-2024-0169.
Montane peaclam | FWS-R8-ES-2024-0168 | https://www.regulations.gov/docket/FWS-R8-ES-2024-0168.
Painted woolly bat | FWS-HQ-ES-2024-0182 | https://www.regulations.gov/docket/FWS-HQ-ES-2024-0182.
Southern Cascades population of Sierra Nevada red fox | FWS-R1-ES-2024-0165 | https://www.regulations.gov/docket/FWS-R1-ES-2024-0165.
Sulawesi forest turtle | FWS-HQ-ES-2025-0045 | https://www.regulations.gov/docket/FWS-HQ-ES-2025-0045.

Table 2—Not-Substantial Findings
Common name | Docket No. | URL to docket on https://www.regulations.gov
Alaskan glacier buttercup | FWS-R7-ES-2024-0102 | https://www.regulations.gov/docket/FWS-R7-ES-2024-0102.
Eastern population of golden eagle | FWS-R5-ES-2025-0012 | https://www.regulations.gov/docket/FWS-R5-ES-2025-0012.

Evaluation of a Petition To List the Alaskan Glacier Buttercup

Species and Range

Alaskan glacier buttercup (Ranunculus glacialis subsp. alaskensis); Kigluaik Mountains, Seward Peninsula, Alaska.

Petition History

On February 1, 2024, we received a petition from the Center for Biological Diversity, requesting that the Alaskan glacier buttercup be listed as an endangered or a threatened species and critical habitat be designated for this subspecies under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding the individual and cumulative effects of threats that fall within factors under the Act's section 4(a)(1) as potentially ameliorated or exacerbated by any existing regulatory mechanisms or conservation efforts. Based on our review of the petition, sources cited in the petition, and other readily available information, we find that the petition does not provide substantial scientific or commercial information indicating that listing the Alaskan glacier buttercup as an endangered species or a threatened species may be warranted.

The basis for our finding on this petition and other information regarding our review of the petition can be found as an appendix at https://www.regulations.gov under Docket No. FWS-R7-ES-2024-0102 under the Supporting Documents section.

Evaluation of a Petition To List the Cinnamon Juga

Species and Range

Cinnamon juga (Juga canella); Siskiyou and Shasta Counties, California; Jackson County, Oregon.

Petition History

On March 21, 2024, we received a petition from the Center for Biological Diversity, requesting that the cinnamon juga be listed as an endangered species or a threatened species and critical habitat be designated for this species under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding decreased water quality (Factor A), we find that the petition presents substantial scientific or commercial information indicating that listing the cinnamon juga as an endangered species or a threatened species may be warranted. The petitioners also presented information suggesting water diversions, low dispersal ability, low number of sites, climate change, and wildfire may be threats to the cinnamon juga. We will fully evaluate these potential threats during our 12-month status review, pursuant to the Act's requirement to review the best scientific and commercial data available when making that finding.

The basis for our finding on this petition and other information regarding our review of the petition can be found as an appendix at https://www.regulations.gov under Docket No. FWS-R8-ES-2024-0167 under the Supporting Documents section.

Evaluation of a Petition To List the Eastern Population of Golden Eagle

Species and Range

Golden eagle (Aquila chrysaetos); the contiguous United States, Alaska, Canada, and Mexico.

The eastern population of the golden eagle breeds in Canada and winters in and/or migrates through Alabama, Arkansas, Connecticut, Delaware, Florida, Georgia, Illinois, Indiana, Iowa, Kentucky, Louisiana, Maine, Maryland, Massachusetts, Michigan, Minnesota, Mississippi, Missouri, New Hampshire, New Jersey, New York, North Carolina, Ohio, Pennsylvania, Rhode Island, South Carolina, Tennessee, Vermont, Virginia, Washington DC, West Virginia, and Wisconsin.

Petition History

On November 15, 2023, we received a petition from the American Bird Conservancy, requesting that the eastern population of the golden eagle be listed as an endangered or a threatened distinct population segment (DPS). Alternatively, the petitioner requested the golden eagle (species as a whole) be listed as an endangered species or a threatened species. The petitioner also asked that critical habitat be designated. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding the individual and cumulative effects of threats that fall within factors under the Act's section 4(a)(1) as potentially ameliorated or exacerbated by any existing regulatory mechanisms or conservation efforts. Based on our review of the petition, sources cited in the petition, and other readily available information, we find that the petition does not provide substantial scientific or commercial information indicating that listing the eastern population of the golden eagle as an endangered or threatened DPS, or the golden eagle (species as a whole) as an endangered or threatened species, may be warranted. Although the petition provided credible information that individual golden eagles have been killed by wind turbines, recreational shooting, collision with vehicles, electrocution, incidental trapping, and lead poisoning (Factors B and E), the petitioner did not demonstrate population-level impacts to either the eastern population of the golden eagle or the species as a whole. The best available information indicates that golden eagle populations are stable rangewide and within the eastern portion of its range.

The basis for our finding on this petition and other information regarding our review of the petition can be found as an appendix at https://www.regulations.gov under Docket No. FWS-R5-ES-2025-0012 under the Supporting Documents section.

Evaluation of a Petition To List the Great Basin Ramshorn

Species and Range

Great Basin ramshorn (Helisoma newberryi); California, Oregon, and Wyoming.

Petition History

On March 21, 2024, we received a petition from the Center for Biological Diversity, requesting that the Great Basin ramshorn be listed as an endangered species or a threatened species and critical habitat be designated for this species under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding decreased water quality (Factor A), we find that the petition presents substantial scientific or commercial information indicating that listing the Great Basin ramshorn as an endangered species or a threatened species may be warranted. The petitioners also presented information suggesting drought, water diversions, incompatible land use, recreation, climate change, small population size, stochastic events, and invasive species may be threats to the Great Basin ramshorn. We will fully evaluate these potential threats during our 12-month status review, pursuant to the Act's requirement to review the best scientific and commercial data available when making that finding.

The basis for our finding on this petition and other information regarding our review of the petition can be found as an appendix at https://www.regulations.gov under Docket No. FWS-R8-ES-2024-0166 under the Supporting Documents section.

Evaluation of a Petition To Revise Critical Habitat for the Leatherback Sea Turtle

Species and Range

Leatherback sea turtle (Dermochelys coriacea); Atlantic, Pacific, and Indian Oceans; U.S. waters in the Northwest Atlantic, West Pacific, and East Pacific; nesting in Florida, Puerto Rico, and the U.S. Virgin Islands.

Petition History

On February 15, 2024, we received a petition from Amigos de las Tortugas Marinas (ATMAR, Inc.), Vida Marina, Yo Amo el Tinglar, and the Center for Biological Diversity, requesting that critical habitat be revised for the leatherback sea turtle, a species listed as endangered under the Act. The petition requests that the Service revise critical habitat for the leatherback sea turtle to include three units in Puerto Rico: California Beach, in the municipality of Maunabo (southeast coast of Puerto Rico); Tres Hermanos Beach, in the municipality of Añasco (west coast of Puerto Rico); and Grande Beach, in the municipality of Arecibo (north coast of Puerto Rico); totaling 121.4 acres (49.1 hectares). The petition further requests that the Service consider designating additional beaches in Puerto Rico as critical habitat. The petition clearly identified itself as such and included the requisite identification information for the petitioner, required at 50 CFR 424.14(c). This finding addresses the petition.

Finding

We reviewed the petition, sources cited in the petition, and other readily available information to determine if the petition may be warranted. Under our regulations at 50 CFR 424.14(e)(3), for areas petitioned to be added to designated critical habitat within the geographical area occupied by the species at the time it was listed, we assessed whether the petitioner presented substantial information indicating that the specific areas contain one or more of the physical or biological features (including characteristics that support ephemeral or dynamic habitat conditions) that are essential to the conservation of the species and may require special management considerations or protection. The information presented in the petition meets the definition of substantial scientific information as that term is defined at 50 CFR 424.14(i)(1)(i). Based on our review of the petition, sources cited in the petition, and other readily available information, we find the petition does provide substantial scientific information indicating that revising critical habitat for the leatherback sea turtle may be warranted.

The basis for our finding on this petition and other information regarding our review of the petition can be found as an appendix at https://www.regulations.gov under Docket No. FWS-R4-ES-2024-0169 under the Supporting Documents section.

Evaluation of a Petition To List the Montane Peaclam

Species and Range

Montane peaclam (Pisidium ultramontanum); south-central Oregon and northeastern California.

Petition History

On March 21, 2024, we received a petition from the Center for Biological Diversity, requesting that the montane peaclam be listed as an endangered species or a threatened species under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information, regarding lake eutrophication (Factor A), we find that the petition presents substantial scientific or commercial information indicating that listing the montane peaclam as an endangered species or a threatened species may be warranted. The petitioners also presented information suggesting modification of hydroelectric impoundments, water diversions, incompatible land use practices, recreation, inappropriate grazing, pollution, invasive species, climate change, and small population size may be threats to the montane peaclam. We will fully evaluate these potential threats during our 12-month status review, pursuant to the Act's requirement to review the best scientific and commercial data available when making that finding.

The basis for our finding on this petition and other information regarding our review of the petition can be found as an appendix at https://www.regulations.gov under Docket No. FWS-R8-ES-2024-0168 under the Supporting Documents section.

Evaluation of a Petition To List the Painted Woolly Bat

Species and Range

Painted woolly bat (Kerivoula picta); Bangladesh, Burma, Cambodia, China, India, Indonesia, Lao People's Democratic Republic, Malaysia, Nepal, Sri Lanka, Thailand, and Vietnam.

Petition History

On June 3, 2024, we received a petition from the Center for Biological Diversity and Monitor Conservation Research Society, requesting that the painted woolly bat be listed as an endangered species or a threatened species under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding over-exploitation for the ornamental taxidermy trade (Factor B), and inadequacy of existing regulatory mechanisms to reduce this threat (Factor D), we find that the petition presents substantial scientific or commercial information indicating that listing the painted woolly bat as an endangered species or a threatened species may be warranted. The petitioners also presented information suggesting loss of suitable habitat (Factor A) may be a threat to the painted woolly bat. We will fully evaluate these potential threats during our 12-month status review, pursuant to the Act's requirement to review the best scientific and commercial data available when making that finding.

The basis for our finding on this petition and other information regarding our review of the petition can be found as an appendix at https://www.regulations.gov under Docket No. FWS-HQ-ES-2024-0182 under the Supporting Documents section.

Evaluation of a Petition To List the Southern Cascades Population of Sierra Nevada Red Fox

Species and Range

Southern Cascades population of the Sierra Nevada red fox (population of Vulpes vulpes necatori); Crest of the Oregon Cascades between Mount Hood and Crater Lake National Park, Lassen Volcanic National Park, and Lassen National Forest.

Petition History

On February 8, 2024, we received a petition from the Center for Biological Diversity requesting that the Southern Cascades population of the Sierra Nevada red fox be listed as an endangered or a threatened DPS and critical habitat be designated under the Act. The petition clearly identified itself as such and included the requisite identification information for the petitioner, required at 50 CFR 424.14(c). This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information regarding recreation (Factor A) and inherent vulnerability of small populations (Factor E), we find that the petition presents substantial scientific or commercial information indicating that listing the Southern Cascades population of the Sierra Nevada red fox as an endangered or threatened DPS may be warranted. The petitioners also presented information suggesting disease, predation, rodenticides, wildfire, hybridization, and climate change may be threats to the Southern Cascades population of the Sierra Nevada red fox. We will fully evaluate these potential threats during our 12-month status review, pursuant to the Act's requirement to review the best scientific and commercial data available when making that finding.

The basis for our finding on this petition and other information regarding our review of the petition can be found as an appendix at https://www.regulations.gov under Docket No. FWS-R1-ES-2024-0165 under the Supporting Documents section.

Evaluation of a Petition To List the Sulawesi Forest Turtle

Species and Range

Sulawesi forest turtle (Leucocephalon yuwonoi); Minahasa Peninsula, on the island of Sulawesi, Indonesia.

Petition History

On February 27, 2025, we received a petition from the Center for Biological Diversity and Monitor Conservation Research Society, requesting that the Sulawesi forest turtle be emergency-listed as an endangered species or a threatened species under the Act. The petition clearly identified itself as such and included the requisite identification information for the petitioner, required at 50 CFR 424.14(c). Listing a species on an emergency basis is not a petitionable action under the Act, and the question of when to list on an emergency basis is left to the discretion of the Service. If the Service determines that the standard for emergency listing in section 4(b)(7) of the Act is met, the Service may exercise that discretion to take an emergency listing action at any time. Therefore, we are considering the February 27, 2025, petition as a petition to list the Sulawesi forest turtle. This finding addresses the petition.

Finding

We reviewed the petition, sources cited in the petition, and other readily available information (within the constraints of the Act and 50 CFR 424.14(h)(1)). We considered the credible information that the petition provided regarding effects of the threats that fall within factors under the Act's section 4(a)(1) as potentially ameliorated or exacerbated by any existing regulatory mechanisms or conservation efforts. Based on our review of the petition and readily available information concerning overcollection to supply international demand for meat and pets (Factor B) and inadequacy of existing regulatory mechanisms to reduce this threat (Factor D), we find that the petition presents substantial scientific or commercial information indicating that listing the Sulawesi forest turtle as an endangered species or a threatened species may be warranted. We will fully evaluate these potential threats during our 12-month status review, pursuant to the Act's requirement to review the best scientific and commercial data available when making that finding.

The basis for our finding on this petition and other information regarding our review of the petition can be found as an appendix at https://www.regulations.gov under Docket No. FWS-HQ-ES-2025-0045 under the Supporting Documents section.

Conclusion

On the basis of our evaluation of the information presented in the petitions under section 4(b)(3)(A) of the Act, we have determined that the petitions summarized above for the cinnamon juga, Great Basin ramshorn, montane peaclam, painted woolly bat, Southern Cascades population of the Sierra Nevada red fox, and Sulawesi forest turtle present substantial scientific or commercial information indicating that the petitioned actions may be warranted. We are, therefore, initiating status reviews of these species to determine whether the actions are warranted under the Act. At the conclusion of the status reviews, we will issue findings, in accordance with section 4(b)(3)(B) of the Act, as to whether the petitioned actions are not warranted, warranted, or warranted but precluded by pending proposals to determine whether any species is an endangered species or a threatened species. We also find that the petition to revise critical habitat for the leatherback sea turtle presents substantial scientific information indicating that the petitioned action may be warranted. Therefore, we are also announcing that we are planning to determine how we will proceed with the request to revise a critical habitat designation for the species. In addition, we have determined that the petitions summarized above for the Alaskan glacier buttercup and eastern population of the golden eagle do not present substantial scientific or commercial information indicating that the petitioned actions may be warranted. We are, therefore, not initiating status reviews for these species in response to the petitions.

Authority

The authority for these actions is the Endangered Species Act of 1973, as amended (16 U.S.C. 1531 et seq.).

Brian R. Nesvik,
Director, U.S. Fish and Wildlife Service.

[FR Doc. 2025-16227 Filed 8-22-25; 8:45 am]

BILLING CODE 4333-15-P